ENVIRONMENTAL PROTECTION AGENCY

[FRL-6536-6]

Science Advisory Board; Meeting Cancellation Notice; Open Meeting Notice; Notice of Meeting Changes

1. Meeting Cancellation Notice—Executive Committee—February 16, 2000

The meeting of the Executive Committee of the SAB that was scheduled for February 16, 2000 between the hours of 2:00 and 4:00 EST has been canceled. The meeting was advertised in 65 FR 4966, dated February 2, 2000. The reports subject to review at that meeting have been rescheduled for review at the March 7-8 Executive Committee meeting announced below. For further information, please contact Dr. Donald G. Barnes, Designated Federal Officer for the Executive Committee (see below for contact information).

2. Open Meeting Notice—Executive Committee—March 7-8, 2000

Pursuant to the Federal Advisory Committee Act, Public Law 92-463, notice is hereby given that the Science Advisory Board's (SAB's) Executive Committee will conduct a public meeting on Tuesday and Wednesday, March 7-8, 2000. The meeting will convene each day at 8:30 in Conference Room 6013 of the Ariel Rios Building, U.S. Environmental Protection Agency, 1200 Pennsylvania Avenue, Washington, DC 20460 and adjourn no later than 5:30. The meeting is open to the public; however, seating is limited and available on a first-come basis.

At this meeting, the Executive Committee will receive updates from its committees and subcommittees concerning their recent and planned activities. As part of these updates, some committees will present draft reports for Executive Committee review and approval. Tentatively anticipated drafts include, but are not limited to, the following:

(a) Executive Committee Subcommittee: “Review of the Agency's Position on the Data from the Testing of Human Subjects.”

(b) Executive Committee Subcommittee: “Review of the Agency's Application of the Cancer Risk Assessment Guidelines to Children.”

(c) Executive Committee Subcommittee: “Review of the Application of the Draft Cancer Risk Assessment Guidelines to the Case of Chloroform.”

(d) Radiation Advisory Committee: “Assessing the Risks from Indoor Radon.”

(e) Research Strategies Advisory Committee joint report view with the Board of Scientific Counselors of ORD: “Review of the Agency's Science to Achieve Results (STAR) Program.”

Drafts of the reports that will be reviewed at the meeting should be available to the public at the SAB website (http://www.epa.gov/sab) by close-of-business on February 28, 2000.

As part of this two day meeting, the Executive Committee will also: (a) Meet with various Agency officials to discuss matters of mutual interest such as the framework for a Strategic Plan for Science at EPA; (b) receive briefings from Agency staff on various topics, including an update of the Integrated Risk Information System (IRIS) project; and (c) conduct the second in a series of Workshops on the role of science in some of the Agency's innovative approaches to environmental decision making.

The timing of these events will be included in an agenda for the meeting that should be available one week prior to the meeting.

Public Comments

Any member of the public wishing to submit brief oral comments (<5 minutes) must contact Dr. Donald G. Barnes, Designated Federal Officer (DFO) for the Executive Committee, in writing, no later than close of business Tuesday, February 29th at USEPA Science Advisory Board (1400A), 1200 Pennsylvania Avenue, NW, Washington, DC 20460; fax (202) 501-0323; or via e-mail at (barnes.don@epa.gov). Those wishing further information concerning the meeting should contact Dr. Barnes at (202) 564-4533.

Meeting Access

Individuals requiring special accommodation at this meeting due to disability should contact Dr. Barnes at least five business days prior to the meeting to insure that appropriate arrangements are made.

3. Meeting Change Notice—Environmental Engineering Committee and Its Subcommittees

Notice is hereby given of changes to three meetings of the Science Advisory Board's Environmental Engineering Committee and its Subcommittees. The original meetings were announced in 65 FR 1866, dated Wednesday, January 12, 2000. For further information, please contact Ms. Kathleen Conway, Designated Federal Officer for the Environmental Engineering Committee at (202) 564-4559 or via e-mail at (Conway.Kathleen@epa.gov). The changes follow.

(a) The Technology Evaluation Subcommittee will not meet February 23-25, 2000. Instead, it will meet March 6-8, 2000 as part of the week-long Environmental Engineering Committee meeting. There has been no change in the purpose or location for that meeting; only the dates have changed.

The following information from the previous announcement is provided again here for your convenience, “The Environmental Engineering Committee of the Science Advisory Board (SAB) will meet Monday through Friday, March 6-10, 2000 in room 6450 of in the Ariel Rios Building North, 1200 Pennsylvania Avenue, NW, Washington, DC 20004 (adjacent to the escalator to the Federal Triangle Metro Station on 12th Street NW). The meeting will begin at 9:30 a.m. on Monday and end no later than 4:00 p.m. on Friday.”

(b) The Natural Attenuation Research Subcommittee of the Science Advisory Board's (SAB) Environmental Engineering Committee (EEC) will conduct a public teleconference meeting Thursday February 24, 2000 between the hours of 3:00 p.m.—5:00 p.m (Eastern Standard Time) as announced. However, the purpose of this conference call has been changed. The Subcommittee will not hear the preliminary reactions of individual reviewers to the written materials. Instead, the Subcommittee will discuss the charge and plan the review in light a forthcoming report from the National Research Council.

(c) The Natural Attenuation Research Subcommittee will not meet March 6-8, 2000. The Subcommittee plans to reschedule its review of the Agency's Natural Attenuation research program until May. When dates for that meeting have been determined, it will be announced in the Federal Register.

General Information on Providing Oral or Written Comments at SAB Meetings

The Science Advisory Board expects that public statements presented at its meetings will not be repetitive of previously submitted oral or written statements. In general, each individual or group making an oral presentation will be limited to a total time of ten minutes (unless otherwise noted). Written comments (at least 35 copies) should be received in the SAB Staff Office one week before the meeting so that they can be mailed to the relevant SAB committee or subcommittee for study. Written comments may be provided to the relevant committee or subcommittee up until the time of the meeting.

Additional information concerning the Science Advisory Board, its structure, function, and composition, may be found on the SAB Website (http://www.epa.gov/sab) and in the Annual Report of the Staff Director which is available from the SAB Publications Staff at (202) 564-4533 or via fax at (202) 501-0256.

Dated: February 8, 2000.
Donald G. Barnes,
Staff Director, Science Advisory Board.

[FR Doc. 00-3487 Filed 2-14-00; 8:45 am]

BILLING CODE 6560-50-P